DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration.

Title: State and Local Implementation Grant Program Closeout Documentation.

OMB Control Number: None.

Form Number(s): None.

Type of Request: Regular submission (new collection).

Number of Respondents: 54.

Average Hours per Response: Final closeout report: 25 hours.

Burden Hours: 1,350.

Needs and Uses: The Middle Class Tax Relief and Job Creation Act of 2012 (Act, Pub. L. 112-96, 126 Stat. 156 (2012)) was signed by the President on February 22, 2012. The Act meets a long-standing priority of the Administration, as well as a critical national infrastructure need, to create a single, interoperable, nationwide public safety broadband network (NPSBN) that will, for the first time, allow police officers, fire fighters, emergency medical service professionals, and other public safety officials to effectively communicate with each other across agencies and jurisdictions. Public safety workers have long been hindered in their ability to respond in a crisis situation because of incompatible communications networks and often outdated communications equipment.

The Act establishes the First Responder Network Authority (FirstNet) as an independent authority within NTIA and authorizes it to take all actions necessary to ensure the design, construction, and operation of the NPSBN, based on a single, national network architecture.

The Act also charges NTIA with establishing a grant program, the State and Local Implementation Grant Program (SLIGP), to assist state, regional, tribal, and local jurisdictions with identifying, planning, and implementing the most efficient and effective means to use and integrate the infrastructure, equipment, and other architecture associated with the NPSBN to satisfy the wireless broadband and data services needs of their jurisdictions. NTIA will use the collection of information to ensure that SLIGP grant recipients are effectively monitored and evaluated against the core purposes of the program established by the Act. The information collection will ensure that final data is collected to effectively assess the success of SLIGP recipients in implementing their project goals.

The publication of this notice allows NTIA to begin the process to request approval for the standard three years. This request is a new information collection request.

Affected Public: State, regional, local, and tribal government organizations.

Frequency: Once.

Respondent's Obligation: Mandatory.

NTIA published a Notice in the Federal Register on February 17, 2016 soliciting comments on this information collection. NTIA did not receive any comments on this Notice.

This information collection request may be viewed at reginfo.gov. Follow the instructions to view Department of Commerce collections currently under review by OMB.

Written comments and recommendations for the proposed information collection should be sent within 30 days of publication of this notice to OIRA_Submission@omb.eop.gov or fax to (202) 395-5806.

Dated: April 26, 2016.
Glenna Mickelson,
Management Analyst, Office of the Chief Information Officer.

[FR Doc. 2016-10035 Filed 4-28-16; 8:45 am]

BILLING CODE 3510-JE-P